DEPARTMENT OF COMMERCE

International Trade Administration

[A-201-844]

Steel Concrete Reinforcing Bar From Mexico: Final Results of Antidumping Duty Administrative Review; 2014-2015

AGENCY: Enforcement and Compliance, International Trade Administration, Department of Commerce.

SUMMARY: On December 9, 2016, the Department of Commerce (the Department) published the Preliminary Results of the administrative review of the antidumping duty order on steel concrete reinforcing bar from Mexico (rebar). The period of review (POR) is April 24, 2014, through October 31, 2015. The review covers two mandatory respondents, Deacero S.A.P.I. de C.V. (Deacero) and Grupo Simec S.A.B. de C.V. (Grupo Simec). For these final results, we find that Deacero made sales of subject merchandise at less than normal value, while Grupo Simec did not make sales of subject merchandise at less than normal value. See the “Final Results of the Review” section below.

DATES: Effective June 14, 2017.

FOR FURTHER INFORMATION CONTACT: Stephanie Moore (for Deacero) or Patricia Tran (for Grupo Simec), AD/CVD Operations, Office III, Enforcement and Compliance, International Trade Administration, U.S. Department of Commerce, 1401 Constitution Avenue NW., Washington, DC 20230; telephone: (202) 482-3692 or (202) 482-1503, respectively.

SUPPLEMENTARY INFORMATION:

Background

On December 9, 2016, the Department published the Preliminary Results.¹ On January 31, 2017, the petitioner,² Grupo Simec, and Deacero timely submitted their case briefs.³ On January 9, 2017, the petitioner and Grupo Simec submitted requests for a hearing.⁴ On February 7, 2017, the petitioner, Grupo Simec, and Deacero submitted their rebuttal briefs.⁵ On February 8, 2017, Grupo Simec withdrew its request for a hearing.⁶ Both Grupo Simec and the petitioner agreed to meetings with the Department in lieu of a hearing. Department officials met with Grupo Simec and the petitioner on May 3, and 10, 2017, respectively.⁷ On May 4, 2017, the Department postponed the final results until June 7, 2017.⁸

¹ See Steel Concrete Reinforcing Bar from Mexico: Preliminary Results of Antidumping Duty Administrative Review; 2014-2015, 81 FR 89053 (December 9, 2016) (Preliminary Results).

² The petitioner is the Rebar Trade Action Coalition, whose individual members are Nucor Corporation, Gerdau Ameristeel US Inc., Commercial Metals Company, Cascade Steel Rolling Mills, Inc., and Byer Steel Corporation.

³ See the petitioner's letter titled, “Steel Concrete Reinforcing Bar from Mexico—Case Brief,” dated January 31, 2017; see also Deacero's letter titled, “Steel Concrete Reinforcing Bar from Mexico—Case Brief,” dated January 31, 2017; Grupo Simec's letter titled, “Antidumping Duty Administrative Review of Steel Concrete Reinforcing Bar from Mexico—Case Brief,” dated January 31, 2017.

⁴ See letter from the petitioner titled, “Steel Concrete Reinforcing Bar from Mexico: Request for Hearing,” dated January 9, 2017. See also letter from Grupo Simec titled, “Steel Concrete Reinforcing Bar from Mexico: Hearing Request,” dated January 9, 2017.

⁵ See the petitioner's letter titled, “Steel Concrete Reinforcing Bar from Mexico—Rebuttal Brief,” dated February 7, 2017; see also Deacero's letter titled, “Steel Concrete Reinforcing Bar from Mexico—Rebuttal Brief,” dated February 7, 2017; Grupo Simec's letter titled, “Antidumping Duty Administrative Review of Steel Concrete Reinforcing Bar from Mexico—Rebuttal Case Brief,” dated February 7, 2017.

⁶ See letter from Grupo Simec titled “Steel Concrete Reinforcing Bar from Mexico: Withdrawal of Hearing Request,” dated February 8, 2017.

⁷ See Memorandum to the File from Stephanie Moore, Case Analyst titled, “Steel Concrete Reinforcing Bar from Mexico: Meeting with Respondents,” dated May 10, 2017. See also Memorandum to the File from Stephanie Moore, Case Analyst titled, “Steel Concrete Reinforcing Bar from Mexico: Meeting with Petitioner,” dated May 16, 2017.

⁸ See Memorandum titled “Steel Concrete Reinforcing Bar from Mexico: Extension of Deadline for Final Results of Antidumping Duty Administrative Review,” dated May 4, 2017.

Scope of the Order

Imports covered by the order are shipments of steel concrete reinforcing bar imported in either straight length or coil form (rebar) regardless of metallurgy, length, diameter, or grade. The merchandise subject to review is currently classifiable under items 7213.10.0000, 7214.20.0000, and 7228.30.8010. The subject merchandise may also enter under other Harmonized Tariff Schedule of the United States (HTSUS) numbers including 7215.90.1000, 7215.90.5000, 7221.00.0015, 7221.00.0030, 7221.00.0045, 7222.11.0001, 7222.11.0057, 7222.11.0059, 7222.30.0001, 7227.20.0080, 7227.90.6085, 7228.20.1000, and 7228.60.6000. Although the HTSUS subheadings are provided for convenience and customs purposes, the written description of the merchandise subject to the order is dispositive.⁹

⁹ For a full description of the scope of the order, see the “Decision Memorandum for the Final Results of Antidumping Duty Administrative Review: Steel Concrete Reinforcing Bar from Mexico; 2014-2015,” dated concurrently with this notice (Issues and Decision Memorandum).

Analysis of Comments Received

All issues raised in the case and rebuttal briefs by parties to this administrative review are addressed in the Issues and Decision Memorandum. A list of the issues that parties raised and to which we responded is attached to this notice as an Appendix. The Issues and Decision Memorandum is a public document and is on-file electronically via Enforcement and Compliance's Antidumping and Countervailing Duty Centralized Electronic Service System (ACCESS). ACCESS is available to registered users at https://access.trade.gov and in the Central Records Unit (CRU), room B8024 of the main Department of Commerce building. In addition, a complete version of the Issues and Decision Memorandum can be accessed directly on the Internet at http://enforcement.trade.gov/frn/index.html. The signed Issues and Decision Memorandum and the electronic versions of the Issues and Decision Memorandum are identical in content.

Changes Since the Preliminary Results

Based on a review of the record and comments received from interested parties regarding our Preliminary Results, we have made company-specific changes to Deacero's final margin calculation with respect to the SAS Comparison Market for affiliated purchases of electricity, and we revised the general and administrative (G&A) expense ratio. However, despite these changes, the weighted-average dumping margin for Deacero has not changed.

For Grupo Simec, we have changed the final margin calculation with respect to the SAS Comparison Market for fixed overhead costs, G&A, and financial expense ratio. However, despite these changes, the weighted-average dumping margin for Grupo Simec has not changed.

Final Results of the Review

As a result of this review, we determine the following weighted-average dumping margins for the period April 24, 2014, through October 31, 2015:

Producer and/or exporter | Weighted-average dumping margins (percent)
Deacero S.A.P.I. de C.V | 0.56
Grupo Simec S.A.B. de C.V¹⁰ | 0.00

Disclosure

¹⁰ Pursuant to section 771(33)(B), (F) and (G) of the Tariff Act of 1930, as amended (the Act), the Department found Grupo Simec S.A.B. de C.V. affiliated with the following producers: Orge S.A. de C.V.; Compania Siderurgica del Pacifico S.A. de C.V.; Grupo Chant S.A.P.I. de C.V.; RRLC S.A.P.I. de C.V.; Siderurgica del Occidente y Pacifico S.A. de C.V.; Simec International 6 S.A. de C.V.; Simec International 7 S.A. de C.V.; and Simec International 9 S.A. de C.V. The Department collapsed and treated as a single entity Grupo Simec S.A.B. de C.V. and these producers for purposes of this administrative review pursuant to 19 CFR 351.401(f). The collective entity is Grupo Simec.

We will disclose the calculations performed to parties in this proceeding within five days of the date of publication of this notice, in accordance with 19 CFR 351.224(b).

Duty Assessment

The Department shall determine and Customs and Border Protection (CBP) shall assess antidumping duties on all appropriate entries.¹¹ For Deacero, because its weighted-average dumping margin is not zero or de minimis (i.e., less than 0.5 percent), the Department has calculated importer-specific antidumping duty assessment rates. We calculated importer-specific ad valorem antidumping duty assessment rates by aggregating the total amount of dumping calculated for the examined sales of each importer and dividing each of these amounts by the total entered value associated with those sales. We will instruct CBP to assess antidumping duties on all appropriate entries covered by this review where an importer-specific assessment rate is not zero or de minimis. Pursuant to 19 CFR 351.106(c)(2), we will instruct CBP to liquidate without regard to antidumping duties any entries for which the importer-specific assessment rate is zero or de minimis. Because we calculated a zero margin for Grupo Simec in the final results of this review, we intend to instruct CBP to liquidate the appropriate entries without regard to antidumping duties.¹²

¹¹ In these final results, the Department applied the assessment rate calculation method adopted in Antidumping Proceedings: Calculation of the Weighted-Average Dumping Margin and Assessment Rate in Certain Antidumping Proceedings: Final Modification, 77 FR 8101 (February 14, 2012) (Final Modification for Reviews).

¹² See Antidumping Proceeding: Calculation of the Weighted-Average Dumping Margin and Assessment Rate in Certain Antidumping Duty Proceedings; Final Modification, 77 FR 8101, 8103 (February 14, 2012).

We intend to issue assessment instructions directly to CBP 41 days after publication of the final results of this review.

Cash Deposit Requirements

The following cash deposit requirements will be effective upon publication of the notice of final results of administrative review for all shipments of subject merchandise entered, or withdrawn from warehouse, for consumption on or after the publication of the final results of this administrative review, as provided by section 751(a)(2)(C) of the Act: (1) The cash deposit rate for respondents noted above will be the rate established in the final results of this administrative review, except if the rate is less than 0.50 percent and, therefore, de minimis within the meaning of 19 CFR 351.106(c)(I), in which case the cash deposit rate will be zero; (2) for merchandise exported by producers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other producers or exporters will continue to be 20.58 percent, the all-others rate established in the antidumping investigation.¹³ These cash deposit requirements, when imposed, shall remain in effect until further notice.

¹³ See Steel Concrete Reinforcing Bar from Mexico: Final Determination of Sales at Less Than Fair Value and Final Affirmative Determination of Critical Circumstances, 79 FR 54967 (September 15, 2014).

Notification to Importers Regarding the Reimbursement of Duties

This notice also serves as a final reminder to importers of their responsibility under 19 CFR 351.402(f) to file a certificate regarding the reimbursement of antidumping duties prior to liquidation of the relevant entries during the POR. Failure to comply with this requirement could result in the Department's presumption that reimbursement of antidumping duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.213(h) and 19 CFR 351.221(b)(5).

Dated: June 7, 2017.
Ronald K. Lorentzen,
Acting Assistant Secretary for Enforcement and Compliance.

Appendix

List of Topics Discussed in the Final Decision Memorandum

I. Summary

II. List of Comments

III. Background

IV. Scope of the Order

V. Analysis of Comments

Comments Concerning Deacero

Comment 1: Whether to Apply Total Adverse Inferences to Deacero

Comment 2: Treatment of Scrap Values Reported by Deacero

Comment 3: Treatment of Non-prime Merchandise Reported by Deacero

Comment 4: Treatment of Affiliated Electricity Purchases Reported by Deacero

Comment 5: Treatment of G&A and Interest Expense Ratios Reported by Deacero

Comment 6: Treatment of Reconciling Items Reported by Deacero

Comment 7: Treatment of Rebar Costs Relating to Non-Subject Merchandise

Comment 8: Inventory Adjustments

Comment 9: Method Used to Calculate Deacero's Final Margin

Comment 10: Sales Passing the Cohen's d Test Based on Time

Comment Concerning Grupo Simec

Comment 11: Whether to Apply Adverse Facts Available to Grupo Simec

Comment 12: Whether to Adjust Grupo Simec's Reported Costs

Comment 13: Whether to Revise the Department's Collapsing Analysis

Comment 14: Clerical Errors

VI. Recommendation

[FR Doc. 2017-12304 Filed 6-13-17; 8:45 am]

BILLING CODE 3510-DS-P